DEPARTMENT OF THE INTERIOR

Fish and Wildlife Service

[FWS-R9-IA-2011-N123; 96300-1671-0000-P5]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless a Federal permit is issued that allows such activities. Both laws require that we invite public comment before issuing these permits.

DATES: We must receive comments or requests for documents on or before July 18, 2011. We must receive requests for marine mammal permit public hearings, in writing, at the address shown in the ADDRESSES section by July 18, 2011.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an e-mail or address not listed under ADDRESSES. If you provide an e-mail address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), and our regulations in the Code of Federal Regulations (CFR) at 50 CFR part 17, the Marine Mammal Protection Act of 1972, as amended (16 U.S.C. 1361 et seq.), and our regulations in the Code of Federal Regulations (CFR) at 50 CFR part 18 require that we invite public comment before final action on these permit applications. Under the MMPA, you may request a hearing on any MMPA application received. If you request a hearing, give specific reasons why a hearing would be appropriate. The holding of such a hearing is at the discretion of the Service Director.

III. Permit Applications

A. Endangered Species

Applicant: Illinois State Museum, Springfield, IL; PRT-42506A

The applicant requests a permit to biological samples from wild Hine's emerald dragonfly (Somatochlora hineana), for the purpose of enhancement of the survival of the species.

Applicant: Endangered Species Propagation, Survival & Research Center, Mertzon, TX; PRT-39083A

The applicant requests a permit to authorize interstate and foreign commerce, export and cull of excess Arabian oryx (Oryx leucoryx) from the captive herd maintained at their facility for the purpose of enhancement of the survival of the species. This notification covers activities to be conducted by the applicant over a 5-year period.

Applicant: Forrest Simpson, Conroe, TX; PRT-115344

The applicant requests reissuance of his permit authorizing interstate and foreign commerce, export and cull of excess barashingh (Rucervus duvauceli) from the captive herd maintained at their facility for the purpose of enhancement of the survival of the species. This notification covers activities to be conducted by the applicant over a 5-year period.

Applicant: Harvard University, Museum of Comparative Zoology, Cambridge, MA; PRT-090287

The applicant requests renewal of their permit to export and reimport nonliving museum specimens of endangered and threatened species previously accessioned into the applicant's collection for scientific research. This notification covers activities to be conducted by the applicant over a 5-year period.

Applicant: Bishop Museum, Honolulu, HI; PRT-700877

The applicant requests renewal of their permit to export and reimport nonliving museum specimens of endangered and threatened species previously accessioned into the applicant's collection for scientific research. This notification covers activities to be conducted by the applicant over a 5-year period.

B. Endangered Marine Mammals and Marine Mammals

Applicant: Matson's Laboratory, Milltown, MT, PRT-166346.

The applicant requests an amendment to the permit to increase the number of teeth to import annually from polar bears (Ursus maritimus) which were taken by national and provincial researchers during subsistence harvests in Canada, for age analysis for the purpose of scientific research and enhancement of survival of the species. This notification covers activities to be conducted by the applicant over the remainder of the 5-year period of the permit.

Concurrent with publishing this notice in the Federal Register, we are forwarding copies of the above applications to the Marine Mammal Commission and the Committee of Scientific Advisors for their review.

Brenda Tapia,
Program Analyst/Data Administrator, Branch of Permits, Division of Management Authority.

[FR Doc. 2011-15034 Filed 6-16-11; 8:45 am]

BILLING CODE 4310-55-P